DEPARTMENT OF TRANSPORTATION

Coast Guard

[USCG 2001-9939]

Collection of Information Under Review by Office of Management and Budget (OMB): OMB Control Numbers 2115-0637, 2115-0054, and 2115-0585

AGENCY: Coast Guard, DOT.

ACTION: Request for comments.

SUMMARY: In compliance with the Paperwork Reduction Act of 1995, the Coast Guard intends to seek the approval of OMB for the renewal of three Information Collection Requests (ICRs). The ICRs comprise (1) Voyage-Planning for Tank-Barge Transits in the Northeast United States, (2), Welding and Hot-Work Permits; Posting of Warning Signs, and (3), Approval of Alterations to Marine Portable Tanks; Approval of Non-Specification Portable Tanks. Before submitting the ICRs to OMB, the Coast Guard is requesting comments on the items described below.

DATES: Comments must reach the Coast Guard on or before August 27, 2001.

ADDRESSES: You may mail comments to the Docket Management System (DMS) [USCG 2001-9939], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for these requests. Comments will become part of this docket and will be available for inspection or copying in room PL-401, located on the Plaza Level of the Nassif Building at the above address between 9 a.m. and 5 p.m., Monday through Friday, except Federal holidays. You may also access this docket on the Internet at http://dms.dot.gov.

Copies of the complete ICRs are available through this docket on the Internet at http://dms.dot.gov and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on these documents; or Dorothy Beard, Chief, Documentary Services Division, U.S. Department of Transportation, 202-366-5149, for questions on the docket.

Request for Comments

The Coast Guard encourages interested persons to submit written comments. Persons submitting comments should include their names and addresses, identify this document [USCG 2001-9939], and give the reason for the comments. Please submit all comments and attachments in an unbound format no larger than 8 1/2 by 11 inches, suitable for copying and electronic filing. Persons wanting acknowledgment of receipt of comments should enclose stamped self-addressed postcards or envelopes.

Information Collection Request

1. Title: Voyage-Planning for Tank-Barge Transits in the Northeast United States.

OMB Control Number: 2115-0637.

Summary: The information collected for a voyage plan serves as a preventive measure and assists in ensuring the successful execution and completion of a voyage in the First Coast Guard District. This rule [33 CFR 165.100] applies primarily to towing vessels engaged in towing certain tank barges carrying petroleum oil in bulk as cargo.

Need: The information for a voyage plan will provide a mechanism for assisting vessels towing tank barges to identify those specific risks, potential equipment failures, or human errors that may lead to accidents.

Respondents: Owners and operators of towing vessels.

Frequency: On occasion.

Burden Estimate: The estimated burden is 439 hours a year.

2. Title: Welding and Hot-Work Permits; Posting of Warning Signs.

OMB Control Number: 2115-0054.

Summary: The information collected here helps ensure that waterfront facilities and vessels are in compliance with safety standards. A permit must issue before welding or hot work on certain waterfront facilities; and the posting of warning signs is required on certain such facilities.

Need: The information is needed to ensure safe operations on certain waterfront facilities and vessels.

Respondents: Owners and operators of certain waterfront facilities and vessels.

Frequency: On occasion.

Burden Estimate: The estimated burden is 226 hours a year.

3. Title: Approval of Alterations to Marine Portable Tanks; Approval of Non-Specification Portable Tanks.

OMB Control Number: 2115-0585.

Summary: The information helps us evaluate the safety of proposed alterations to marine portable tanks and of non-specification portable tank designs used to transfer hazardous materials during offshore operations, such as those on drilling rigs. Respondents will be those who wish to alter existing marine portable tanks or use non-specification portable tanks.

Need: Approval by the Coast Guard of alterations to marine portable tanks ensures that the altered tanks retain the level of safety to which they were originally designed. Further, rules' allowing for the approval of non-specification portable tanks ensures that the rules do not frustrate innovation and new designs.

Respondents: Owners of marine portable tanks and owners and designers of non-specification portable tanks.

Frequency: On occasion.

Burden Estimate: The estimated burden is 18 hours a year.

Dated: June 15 2001.
V.S. Crea,
Director of Information and Technology.

[FR Doc. 01-16185 Filed 6-26-01; 8:45 am]

BILLING CODE 4910-15-P